DEPARTMENT OF HOMELAND SECURITY

Coast Guard

[Docket No. USCG-2016-0301]

Navigation Safety Advisory Council

AGENCY: Coast Guard, DHS.

ACTION: Notice of Federal advisory committee meeting.

SUMMARY: The Navigation Safety Advisory Council will meet in Tampa, Florida to discuss matters relating to maritime collisions, rammings, and groundings, Inland Rules of the Road, International Rules of the Road, navigation regulations and equipment, routing measures, marine information, diving safety, and aids to navigation systems. These meetings will be open to the public.

DATES: The Navigation Safety Advisory Council will meet on Wednesday, November 2, 2016, from 8 a.m. to 5:30 p.m., and on Thursday, November 3, 2016, from 8 a.m. to 5:30 p.m. Please note these meetings may close early if the Council has completed its business.

ADDRESSES: The meeting will be held at Hilton Saint Petersburg Bayfront, 333 1st Street S., Saint Petersburg, Florida 33701-4342. The hotel Web site http://www3.hilton.com/en/hotels/florida/hilton-st-petersburg-bayfront-SPTSHHF/index.html.

For information on facilities or services for individuals with disabilities or to request special assistance at the meeting, contact Mr. Lahn listed in FOR FURTHER INFORMATION CONTACT as soon as possible.

Instructions: To facilitate public participation, written comments on the issues in the “Agenda” section below must be submitted no later than October 30, 2016 if you want Council members to be able to review your comments before the meeting. You must include “Department of Homeland Security” and the docket number, USCG-2016-0301. Written comments may also be submitted using Federal eRulemaking Portal: http://www.regulations.gov. For technical difficulties, contact Mr. Lahn listed in FOR FURTHER INFORMATION CONTACT. Comments received will be posted without alteration at http://www.regulations.gov, including any personal information provided. You may review a Privacy Act notice regarding the Federal Docket Management System in the March 24, 2005, issue of the Federal Register (70 FR 15086).

Docket Search: For access to the docket to read documents or comments related to this notice, go to http://www.regulations.gov insert USCG-2016-0301 in the Search box, press Enter, and then click on the item you wish to view.

FOR FURTHER INFORMATION CONTACT: If you have questions about these meetings, please contact Mr. George Detweiler, the Navigation Safety Advisory Council Alternate Designated Federal Officer, Commandant (CG-NAV-2), U.S. Coast Guard, 2703 Martin Luther King Jr. Avenue SE., Stop 7418, Washington, DC 20593, telephone 202-372-1566 or email George.H.Detweiler@uscg.mil or Mr. Burt Lahn, Commandant (CG-NAV-2), U.S. Coast Guard, 2703 Martin Luther King Jr. Avenue SE., Stop 7418, Washington, DC 20593, telephone 202-372-1526 or email Burt.A.Lahn@uscg.mil.

SUPPLEMENTARY INFORMATION: Notice of this meeting is in compliance with the Federal Advisory Committee Act, Title 5 United States Code, Appendix.

The Navigation Safety Advisory Council is an advisory committee authorized in 33 U.S.C. 2073 and chartered under the provisions of the Federal Advisory Committee Act. The Navigation Safety Advisory Council provides advice and recommendations to the Secretary, through the Commandant of the U.S. Coast Guard, on matters relating to prevention of maritime collisions, rammings, and groundings, Inland and International Rules of the Road, navigation regulations and equipment, routing measures, marine information, diving safety, and aids to navigation systems.

Agenda

Wednesday, November 2, 2016: The Navigation Safety Advisory Council members will receive presentations on the following topics from agency representatives who performed the studies:

(1) The Vessel Traffic Service Study conducted by the National Transportation Safety Board; and

(2) The Atlantic and Gulf Coast Seacoast Waterways and Analysis Management System Study being conducted by the Coast Guard.

Following the above presentations, the Designated Federal Officer will form subcommittees to continue discussions on the following task statements:

(1) Navigation Safety Advisory Council Task 16-01 Review the navigation safety consequences of ships using Ultra Low Sulphur Fuel Oil and recommend measures to mitigate those consequences; and

(2) Navigation Safety Advisory Council Task 16-02 Develop criteria for reporting “near miss” incidents.

Public comments or questions will be taken during the meeting as the Council discusses each issue and prior to the Council formulating recommendations on each issue. There will also be a public comment period at the end of the meeting.

Thursday, November 3, 2016:

(1) Subcommittee discussions continued from Wednesday, November 2, 2016;

(2) Subcommittee reports presented to the Council;

(3) New Business; and

a. Summary of Navigation Safety Advisory Council action items.

b. Schedule next meeting date—Summer, 2017.

c. Council discussions and acceptance of new tasks.

A public comment period will be held after the discussion of new tasks. Speakers are requested to limit their comments to 10 minutes each. Public comments or questions will be taken at the discretion of the Designated Federal Officer during the discussion and recommendations, and new business portion of the meeting. Please contact Mr. Lahn, listed in the FOR FURTHER INFORMATION CONTACT section, to register as a speaker.

Dated: October 13, 2016.
M. D. Emerson,
Director, Marine Transportation Systems.

[FR Doc. 2016-25119 Filed 10-17-16; 8:45 am]

BILLING CODE 9110-04-P